DEPARTMENT OF ENERGY

Federal Energy Regulatory Commission

Combined Notice of Filings #1

Take notice that the Commission received the following exempt wholesale generator filings:

Docket Numbers: EG21-255-000.

Applicants: EnerSmart El Cajon BESS LLC.

Description: Notice of Self-Certification of Exempt Wholesale Generator Status of EnerSmart El Cajon BESS LLC.

Filed Date: 9/17/21.

Accession Number: 20210917-5042.

Comment Date: 5 p.m. ET 10/8/21.

Take notice that the Commission received the following Complaints and Compliance filings in EL Dockets:

Docket Numbers: EL21-78-000.

Applicants: PJM Interconnection, L.L.C.

Description: Answer of PJM Interconnection, L.L.C.

Filed Date: 9/15/21.

Accession Number: 20210915-5111.

Comment Date: 5 p.m. ET 10/6/21.

Take notice that the Commission received the following electric rate filings:

Docket Numbers: ER15-190-016; ER18-1343-011; ER10-2034-007.

Applicants: Duke Energy Renewable Services, LLC, Duke Energy Indiana, Inc., Carolina Solar Power, LLC.

Description: Second Amendment to December 18, 2020 Triennial Market Power Analysis for Central Region of Duke Companies.

Filed Date: 9/15/21.

Accession Number: 20210915-5200.

Comment Date: 5 p.m. ET 9/29/21.

Docket Numbers: ER20-227-004.

Applicants: Jersey Central Power & Light Company, PJM Interconnection, L.L.C.

Description: Compliance filing: Jersey Central Power & Light Company submits tariff filing per 35: JCP&L submits Amendment to pending Compliance Filing in ER20-227 to be effective 1/1/2020.

Filed Date: 9/17/21.

Accession Number: 20210917-5037.

Comment Date: 5 p.m. ET 10/8/21.

Docket Numbers: ER21-2329-001.

Applicants: Minonk Stewardship Wind LLC.

Description: Compliance filing: Revised Rate Schedule Under Docket ER21-2329 to be effective 10/1/2021.

Filed Date: 9/17/21.

Accession Number: 20210917-5101.

Comment Date: 5 p.m. ET 10/8/21.

Docket Numbers: ER21-2520-001.

Applicants: MATL LLP.

Description: Compliance filing: Amended Order 676-I Compliance Filing to be effective 12/31/9998.

Filed Date: 9/17/21.

Accession Number: 20210917-5120.

Comment Date: 5 p.m. ET 10/8/21.

Docket Numbers: ER21-2574-001.

Applicants: Arizona Public Service Company.

Description: Tariff Amendment: Rate Schedule No. 211 Supplemental Filing to be effective 9/29/2021.

Filed Date: 9/17/21.

Accession Number: 20210917-5122.

Comment Date: 5 p.m. ET 10/8/21.

Docket Numbers: ER21-2898-000.

Applicants: California Independent System Operator Corporation.

Description: § 205(d) Rate Filing: 2021-09-16 Non-Conforming Amendment to LGIA—Greenleaf to be effective 9/17/2021.

Filed Date: 9/16/21.

Accession Number: 20210916-5130.

Comment Date: 5 p.m. ET 10/7/21.

Docket Numbers: ER21-2900-000.

Applicants: Duke Energy Florida, LLC, Duke Energy Carolinas, LLC, Duke Energy Progress, LLC.

Description: § 205(d) Rate Filing: Duke Energy Florida, LLC submits tariff filing per 35.13(a)(2)(iii: Revisions to Joint OATT-Network Contract Demand Service and Ministerial Changes to be effective 11/17/2021.

Filed Date: 9/17/21.

Accession Number: 20210917-5005.

Comment Date: 5 p.m. ET 10/8/21.

Docket Numbers: ER21-2901-000.

Applicants: Pacific Gas and Electric Company.

Description: § 205(d) Rate Filing: Amendment to Caltrain (RS 249) to be effective 11/17/2021.

Filed Date: 9/17/21.

Accession Number: 20210917-5070.

Comment Date: 5 p.m. ET 10/8/21.

Docket Numbers: ER21-2902-000.

Applicants: MATL LLP.

Description: § 205(d) Rate Filing: Section 205 Filing Related to 676-I to be effective 12/31/9998.

Filed Date: 9/17/21.

Accession Number: 20210917-5119.

Comment Date: 5 p.m. ET 10/8/21.

Take notice that the Commission received the following electric securities filings:

Docket Numbers: ES21-69-000.

Applicants: Allegheny Generating Company.

Description: Application Under section 204 of the Federal Power Act for Authorization to Issue Securities of Allegheny Generating Company.

Filed Date: 9/16/21.

Accession Number: 20210916-5138.

Comment Date: 5 p.m. ET 10/7/21.

Docket Numbers: ES21-70-000.

Applicants: Jersey Central Power & Light Company.

Description: Application Under section 204 of the Federal Power Act for Authorization to Issue Securities of Jersey Central Power & Light Company.

Filed Date: 9/16/21.

Accession Number: 20210916-5140.

Comment Date: 5 p.m. ET 10/7/21.

Docket Numbers: ES21-71-000.

Applicants: Mid-Atlantic Interstate Transmission, LLC.

Description: Application Under section 204 of the Federal Power Act for Authorization to Issue Securities of Mid-Atlantic Interstate Transmission, LLC.

Filed Date: 9/16/21.

Accession Number: 20210916-5142.

Comment Date: 5 p.m. ET 10/7/21.

Docket Numbers: ES21-72-000.

Applicants: Metropolitan Edison Company.

Description: Application Under section 204 of the Federal Power Act for Authorization to Issue Securities of Metropolitan Edison Company.

Filed Date: 9/16/21.

Accession Number: 20210916-5143.

Comment Date: 5 p.m. ET 10/7/21.

Docket Numbers: ES21-73-000.

Applicants: Monongahela Power Company.

Description: Application Under section 204 of the Federal Power Act for Authorization to Issue Securities of Monongahela Power Company.

Filed Date: 9/16/21.

Accession Number: 20210916-5145.

Comment Date: 5 p.m. ET 10/7/21.

Docket Numbers: ES21-74-000.

Applicants: Pennsylvania Power Company.

Description: Application Under section 204 of the Federal Power Act for Authorization to Issue Securities of Pennsylvania Power Company.

Filed Date: 9/16/21.

Accession Number: 20210916-5150.

Comment Date: 5 p.m. ET 10/7/21.

Docket Numbers: ES21-75-000.

Applicants: Potomac Edison Company.

Description: Application Under section 204 of the Federal Power Act for Authorization to Issue Securities of The Potomac Edison Company.

Filed Date: 9/16/21.

Accession Number: 20210916-5152.

Comment Date: 5 p.m. ET 10/7/21.

Docket Numbers: ES21-76-000.

Applicants: West Penn Power Company.

Description: Application Under section 204 of the Federal Power Act for Authorization to Issue Securities of West Penn Power Company.

Filed Date: 9/16/21.

Accession Number: 20210916-5171.

Comment Date: 5 p.m. ET 10/7/21.

Docket Numbers: ES21-77-000.

Applicants: Trans-Allegheny Interstate Line Company.

Description: Application Under section 204 of the Federal Power Act for Authorization to Issue Securities of Trans-Allegheny Interstate Line Company.

Filed Date: 9/16/21.

Accession Number: 20210916-5170.

Comment Date: 5 p.m. ET 10/7/21.

Docket Numbers: ES21-78-000.

Applicants: Pennsylvania Electric Company.

Description: Application under section 204 of the Federal Power Act for Authorization to Issue Securities of Pennsylvania Electric Company.

Filed Date: 9/16/21.

Accession Number: 20210916-5195.

Comment Date: 5 p.m. ET 10/7/21.

Docket Numbers: ES21-80-000.

Applicants: Georgia Power Company.

Description: Application under section 204 of the Federal Power Act for Authorization to Issue Securities of Georgia Power Company.

Filed Date: 9/17/21.

Accession Number: 20210917-5128.

Comment Date: 5 p.m. ET 10/8/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 17, 2021.
Debbie-Anne A. Reese,
Deputy Secretary.

[FR Doc. 2021-20610 Filed 9-22-21; 8:45 am]

BILLING CODE 6717-01-P